DEPARTMENT OF ENERGY

Federal Energy Regulatory Commission

[Project No. 12679-002]

ORPC Alaska, LLC; Notice of Intent To File License Application, Filing of Draft Application, Request for Waivers of Integrated Licensing Process Regulations Necessary for Expedited Processing of a Hydrokinetic Pilot Project License Application, and Soliciting Comments

April 7, 2009.

a. Type of Filing: Notice of Intent to File a License Application for an Original License for a Hydrokinetic Pilot Project.

b. Project No.: 12679-002.

c. Date Filed: March 31, 2009.

d. Submitted By: ORPC Alaska, LLC.

e. Name of Project: Cook Inlet Tidal Energy Pilot Project.

f. Location: In upper Cook Inlet off the north shore of Fire Island in the boroughs of Anchorage and Matanuska-Susitna, Alaska. Three proposed alternatives for transmission line alignment would occupy varying amounts of federal lands on Fire Island administered by the U.S. Coast Guard and Federal Aviation Administration.

g. Filed Pursuant to: 18 CFR 5.3 of the Commission's regulations.

h. Applicant Contact: ORPC Alaska, LLC, 151 Martine Street, Suite 102-5C, Fall River, MA 02723; (813) 417-6660.

i. FERC Contact: Matt Cutlip (503) 552-2762.

j. ORPC Alaska, LLC (ORPC Alaska) has filed with the Commission: (1) A notice of intent (NOI) to file an application for an original license for a hydrokinetic pilot project and a draft license application with monitoring plans; (2) a request for waivers of the integrated licensing process regulations necessary for expedited processing of a hydrokinetic pilot project license application; (3) a proposed process plan and schedule; (4) a request to be designated as the non-federal representative for section 7 of the Endangered Species Act consultation; and (5) a request to be designated as the non-federal representative for section 106 consultation under the National Historic Preservation Act (collectively the pre-filing materials).

k. With this notice, we are soliciting comments on the pre-filing materials listed in paragraph j above, including the draft license application and monitoring plans. All comments should be sent to the address above in paragraph h. In addition, all comments (original and eight copies) must be filed with the Commission at the following address: Kimberly D. Bose, Secretary, Federal Energy Regulatory Commission, 888 First Street, NE., Washington, DC 20426. All filings with the Commission must include on the first page, the project name (Cook Inlet Tidal Energy Pilot Project) and number (P-12679-002), and bear the heading “Comments on the proposed Cook Inlet Tidal Energy Pilot Project.” Any individual or entity interested in submitting comments on the pre-filing materials must do so by April 30, 2009.

Comments may be filed electronically via the Internet in lieu of paper. The Commission strongly encourages electronic filings. See 18 CFR 385.2001(a)(1)(iii) and the instructions on the Commission's Web site (http://www.ferc.gov) under the “e-filing” link.

l. With this notice, we are approving ORPC Alaska's request to be designated as the non-federal representative for section 7 of the Endangered Species Act (ESA) and its request to initiate consultation under section 106 of the National Historic Preservation Act; and recommending that it begin informal consultation with: (a) the U.S. Fish and Wildlife Service and the National Marine Fisheries Service as required by section 7 of ESA; and (b) the Alaska State Historic Preservation Officer, as required by section 106, National Historical Preservation Act, and the implementing regulations of the Advisory Council on Historic Preservation at 36 CFR 800.2.

m. This notice does not constitute the Commission's approval of ORPC Alaska's request to use the Pilot Project Licensing Procedures. Upon its review of the project's overall characteristics relative to the pilot project criteria, the draft license application contents, and any comments filed, the Commission will determine whether there is adequate information to conclude the pre-filing process.

n. The proposed Cook Inlet Tidal Energy Pilot Project would be implemented in two phases. Phase 1 would occur in year 1 of the pilot project license and would consist of deployment of one OCGen module (module), containing 4 turbine-generator units with a combined capacity of 1 megawatt. Phase 2 would occur in year 2 of the license and would consist of deployment of four additional modules each with a capacity of 1 megawatt, for a total capacity of 5 megawatts. The project would also consist of: (1) Underwater transmission cables from the modules to a shore station on Fire Island; (2) a transmission line connecting the shore station to an interconnection point on Fire Island; and (3) appurtenant facilities for operation and maintenance. The estimated annual generation of phase 1 would be 2,700 megawatt-hours. The estimated annual generation of phase 2 would be 15,000 megawatt-hours.

o. A copy of the draft license application and all pre-filing materials are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659.

p. Pre-filing process schedule. The pre-filing process will be conducted pursuant to the following tentative schedule. ORPC plans to complete studies in 2009 to provide further support for the environmental analysis. Revisions to the schedule below may be made based on staff's review of the draft application and any comments received.

Milestone | Date
Comments on pre-filing materials due | April 30, 2009.
Issuance of meeting notice (if needed) | May 15, 2009.
Public meeting/technical conference (if needed) | June 14, 2009.
Issuance of notice concluding pre-filing process and ILP waiver request determination | May 30, 2009 (if no meeting is needed); June 29, 2009 (if meeting is needed).

q. Register online at http://ferc.gov/esubscribenow.htm to be notified via e-mail of new filing and issuances related to this or other pending projects. For assistance, contact FERC Online Support.

Kimberly D. Bose,
Secretary.

[FR Doc. E9-8454 Filed 4-13-09; 8:45 am]

BILLING CODE 6717-01-P